DEPARTMENT OF TRANSPORTATION

Pipeline and Hazardous Materials Safety Administration

Office of Hazardous Materials Safety; Notice of Applications for Modification of Special Permit

AGENCY: Pipeline and Hazardous Materials Safety Administration, DOT.

ACTION: List of Applications for Modification of Special Permit.

SUMMARY: In accordance with the procedures governing the application for, and the processing of, special permits from the Department of Transportation's Hazardous Material Regulations (49 CFR part 107, subpart B), notice is hereby given that the Office of Hazardous Materials Safety has received the application described herein. This notice is abbreviated to expedite docketing and public notice. Because the section affected, modes of transportation, and the nature of application have been shown in earlier Federal Register publications, they are not repeated here. Request of modifications of special permits (e.g., to provide for additional hazardous materials, packaging design changes, additional mode of transportation, etc.) are described in footnotes to the application number. Application numbers with the suffix “M” denote a modification request. These applications have been separated from the new applications have been separated from the new application for special permits to facilitate processing.

DATES: Comments must be received on or before October 6, 2006.

Address Comments To: Record Center, Pipeline and Hazardous Materials Safety Administration, U.S. Department of Transportation, Washington, DC 20590.

Comments should refer to the application number and be submitted in triplicate. If Confirmation of receipt of comments is desired, include a self-addressed stamped postcard showing the special permit number.

FOR FURTHER INFORMATION CONTACT: Copies of the applications are available for inspection in the Records Center, Nassif Building, 400 7th Street, SW., Washington DC or at http://dms.dot.gov.

This notice of receipt of applications for modification of special permit is published in accordance with part 107 of the Federal hazardous materials transportation law (49 U.S.C. 5117(b); 49 CFR 1.53(b)).

Issued in Washington, DC, on September 15, 2006.
R. Ryan Posten,
Chief, Special Permits Program, Office of Hazardous Materials, Special Permits & Approvals.

Modification Special Permits
Application number | Docket number | Applicant | Regulation(s) affected | Modification of special permit | Nature of special permit thereof
7945-M |  | Pacific Scientific Duarte, CA | 49 CFR 173.304(a)(1); 175.3 | 7945 | To modify the special permit to authorize additional 2.2 hazardous materials in non-DOT specification cylinders.
10945-M |  | Structural Composites Industries Pomona, CA | 49 CFR 173.302(a); 173.304(a); 175.3 | 10945 | To modify the special permit to authorize retest markings to be applied to the cylinder neck.
12306-M | RSPA-99-5956 | Griffin Pipe Products Co. Lynchburg, VA | 49 CFR Part 172, Subparts C, F | 12306 | To modify the special permit to authorize additional Class 3 hazardous materials.
13179-M | RSPA-03-14876 | Clean Harbors Environmental Services Norwell, MA | 49 CFR 173.21; 173.308 | 13179 | To modify the special permit to authorize the use of an alternative shipping description and hazard class for the Division 2.1 materials being transported to a disposal facility.
13556-M | RSPA-04-17727 | Stericycle Lake Forest, IL | 49 CFR 172.301(a)(1); 172.301(c) | 13556 | To modify the special permit to authorize transportation in commerce of a Division 6.2 material in packagings marked with an outdated proper shipping name.
13598-M | RSPA-04-18706 | Jadoo Folsom, CA | 49 CFR 173.301(a)(1), (d) and (f) | 13598 | To modify the special permit to authorize passenger carrying aircraft as an additional mode of transportation.
14287-M | PHMSA-05-23247 | Troxler Electronic Laboratories, Inc. Research Triangle Park, NC | 49 CFR 173.431 | 14287 | To modify the special permit to authorize cargo vessel as an additional mode of transportation.

[FR Doc. 06-7818 Filed 9-20-06; 8:45 am]

BILLING CODE 4909-60-M